ENVIRONMENTAL PROTECTION AGENCY

[EPA-HQ-OPP-2006-0351; FRL-8108-9]

Pesticides; Draft Guidance for Pesticide Registrants on Use of Antimicrobial Pesticide Products in Heating, Ventilation, Air Conditioning, and Refrigeration Systems

AGENCY: Environmental Protection Agency (EPA).

ACTION: Notice of availability; Reopening of Comment Period.

SUMMARY: The Agency is reopening the comment period and seeking additional public comment on a draft Pesticide Registration Notice (PR Notice) entitled “Use of Antimicrobial Pesticide Products in Heating, Ventilation, Air Conditioning, and Refrigeration Systems.” PR Notices are issued by the Office of Pesticide Programs (OPP) to inform pesticide registrants and other interested persons about important policies, procedures, and registration related decisions, and serve to provide guidance to pesticide registrants and OPP personnel. This particular draft PR Notice would, once final, provide guidance to the registrants concerning EPA-registered sanitizer, disinfectant and other antimicrobial products whose labels bear general directions for use on or incorporation within hard, non-porous or porous surfaces, but which are not specifically registered for treatment of Heating, Ventilation, Air Conditioning and Refrigeration Systems (HVAC&R).

DATES: Comments must be received on or before February 27, 2007.

ADDRESSES: Submit your comments, identified by docket identification (ID) number EPA-HQ-OPP-2006-0351, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2006-0351. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: Tracy Lantz, Antimicrobials Division (7510P), Office of Pesticide Programs, Environmental Protection Agency, 1200 Pennsylvania Ave., NW., Washington, DC 20460-0001; telephone number: (703) 308-6415; fax number: (703) 308-8481; e-mail address: lantz.tracy@epa.gov.

SUPPLEMENTARY INFORMATION:

I. General Information

A. Does this Action Apply to Me

This action is directed to the public in general. Although this action may be of particular interest to those persons who are required to register pesticides and those who maintain Heating, Ventilation, Air Conditioning and Refrigeration Systems. Since other entities may also be interested, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

B. How Can I Get Copies of this Document and Other Related Information?

1. Docket. EPA has established a docket for this action under docket identification (ID) number EPA-HQ-OPP-2006-0351. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Guidance Does this PR Notice Provide?

The EPA is concerned that sanitizer, disinfectant and other antimicrobial products are being used to treat surfaces of HVAC&R systems, including but not limited to use as a part of an air duct cleaning program. When initially registered, these products were approved for use on hard surfaces such as countertops, but air ducts were not intended to be included in the broad hard surface category. EPA is concerned that data demonstrating efficacy when used in air ducts have not been submitted for review by the Agency. Moreover, use of these products in HVAC&R systems such as air ducts pose potential human exposure and health risks to applicators and building occupants which have not been assessed by the Agency.

This draft PR Notice provides guidance which, once final, the Agency would provide to registrants concerning labeling language that EPA believes would address its current concerns for sanitizer, disinfectant and other antimicrobial products whose labels bear directions for use on, or incorporation within, hard, non-porous surfaces, but which have not been specifically approved for use in HVAC&R systems. The PR Notice describes an Agency approach that registrants of products subject to this Notice should add a “Do Not Use” statement to the labeling of such products. Supporting documents for this draft PR Notice are contained in the docket.

EPA originally published this document for comment in the Federal Register on September 22, 2006 (71 FR 55471). The public comment period ended on November 21, 2006. EPA received a request from The Chlorine Institute to extend the comment period. The Chlorine Institute has requested that the Agency provide additional information which was utilized in support of the draft guidance. They have requested additional time to evaluate this information. EPA agrees to reopen the comment period for an additional 60 days.

III. Do PR Notices Contain Binding Requirements?

The PR Notice discussed in this notice is intended to provide guidance to EPA personnel and decision makers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

List of Subjects

Environmental protection, Administrative practice and procedure, Labeling, Pesticides and pests.

Dated: December 20, 2006.
James Jones,
Director, Office of Pesticide Programs.

[FR Doc. E6-22304 Filed 12-28-06; 8:45 am]

BILLING CODE 6560-50-S